DEPARTMENT OF COMMERCE

International Trade Administration

Request for Duty-Free Entry of Scientific Instrument or Apparatus

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c)(2)(A)).

DATES: Written comments must be submitted on or before June 22, 2004.

ADDRESSES: Direct all written comments to Diana Hynek, Departmental Paperwork Clearance Officer, Department of Commerce, Room 6625, 14th & Constitution Avenue, NW., Washington, DC 20230; phone (202) 482-0266 or via the Internet at dHynek@doc.gov.

FOR FURTHER INFORMATION CONTACT: Requests for additional information or copies of the information collection instrument and instructions should be directed to: Gerald Zerdy, U.S. Department of Commerce, FCB Suite 4100W, 14th Street & Constitution Avenue, NW., Washington, DC 20230; phone (202) 482-1660, fax (202) 482-0949.

SUPPLEMENTARY INFORMATION:

I. Abstract

The Departments of Commerce and Homeland Security (“DHS”) are required to determine whether nonprofit institutions established for scientific or educational purposes are entitled to duty-free entry under the Florence Agreement of certain scientific instruments they import. Form ITA-338P enables: (1) DHS to determine whether the statutory eligibility requirements for the institution and the instrument are fulfilled, and (2) Commerce to make a comparison and finding as to the scientific equivalency of comparable instruments being manufactured in the United States. Without the collection of the information, DHS and Commerce would not have the necessary information to carry out the responsibilities of determining eligibility for duty-free entry assigned by law.

II. Method of Collection

The Department of Commerce distributes Form ITA-338P to potential applicants upon request. The applicant completes the form and then forwards it to the DHS. Upon acceptance by DHS as a valid application, the application is transmitted to Commerce for processing.

III. Data

OMB Number: 0625-0037.

Form Number: ITA-338P.

Type of Review: Extension-Regular Submission.

Affected Public: State or local governments; Federal agencies; nonprofit institutions.

Estimated Number of Respondents: 60.

Estimated Time per Response: 2 hours.

Estimated Total Annual Burden Hours: 120.

Estimated Total Annual Cost: $152,640 ($2,640 for respondents and $150,000 for federal government).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 20, 2004.
Madeleine Clayton,
Management Analyst, Office of the Chief Information Officer.

[FR Doc. 04-9306 Filed 4-22-04; 8:45 am]

BILLING CODE 3510-DS-P